DEPARTMENT OF TRANSPORTATION

Federal Aviation Administration

14 CFR Part 39

[Docket No. FAA-2017-0252; Directorate Identifier 2016-NM-187-AD; Amendment 39-18863; AD 2017-09-01]

RIN 2120-AA64

Airworthiness Directives; Bombardier, Inc., Airplanes

AGENCY: Federal Aviation Administration (FAA), DOT.

ACTION: Final rule; request for comments.

SUMMARY: We are adopting a new airworthiness directive (AD) for certain Bombardier, Inc., Model CL-600-2E25 (Regional Jet Series 1000) airplanes. This AD requires a detailed inspection of the circuit breakers, replacement of damaged circuit breakers, and installation of a circuit breaker bushing assembly. This AD was prompted by a report of cracks found in the plastic casing of cockpit circuit breaker panels. We are issuing this AD to address the unsafe condition on these products.

DATES: This AD becomes effective May 11, 2017.

The Director of the Federal Register approved the incorporation by reference of a certain publication listed in this AD as of May 11, 2017.

We must receive comments on this AD by June 12, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this final rule, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com. You may view this referenced service information at the FAA, Transport Airplane Directorate, 1601 Lind Avenue SW., Renton, WA. For information on the availability of this material at the FAA, call 425-227-1221. It is also available on the Internet at http://www.regulations.gov by searching for and locating Docket No. FAA-2017-0252.

Examining the AD Docket

You may examine the AD docket on the Internet at http://www.regulations.gov by searching for and locating Docket No. FAA-2017-0252; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Assata Dessaline, Aerospace Engineer, Avionics and Services Branch, ANE-172, FAA, New York Aircraft Certification Office (ACO), 1600 Stewart Avenue, Suite 410, Westbury, NY 11590; telephone 516-228-7301; fax 516-794-5531.

SUPPLEMENTARY INFORMATION:

Discussion

Transport Canada Civil Aviation (TCCA), which is the aviation authority for Canada, has issued Canadian Airworthiness Directive CF-2016-30, dated September 21, 2016 (referred to after this as the Mandatory Continuing Airworthiness Information, or “the MCAI”), to correct an unsafe condition for certain Bombardier, Inc., Model CL-600-2E25 (Regional Jet Series 1000) airplanes. The MCAI states:

It was discovered during an inspection that circuit breakers installed on the cockpit circuit breaker panels may have cracks in the plastic casing. The damage was found on a Bombardier CL-600-2E25 production aeroplane following a routine functional test procedure. A fleet inspection also found similar damage on the in-service aeroplanes.

Cracked circuit breakers can allow moisture ingress and damage the interior of the circuit breaker and circuit breaker panels resulting in a malfunction of the affected circuit breaker and the potential loss of power to multiple airplane systems.

Corrective actions include inspecting the circuit breakers for any cracks or signs of damage (including small white lines on the casing), replacing any cracked or damaged circuit breakers, and installing a circuit breaker bushing assembly. You may examine the MCAI on the Internet at http://www.regulations.gov by searching for and locating Docket No. FAA-2017-0252.

Related Service Information Under 1 CFR Part 51

Bombardier, Inc., has issued Service Bulletin 670BA-24-037, Revision A, dated July 11, 2016. The service information describes a detailed visual inspection of each circuit breaker for any cracks or signs of damage, replacement of damaged circuit breakers, and installation of a circuit breaker bushing assembly. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2017-0252; Directorate Identifier 2016-NM-187-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected U.S.-registered airplanes. If an affected airplane is imported and placed on the U.S. Register in the future, we provide the following cost estimates to comply with this AD:

Estimated Costs
Action | Labor cost | Parts cost | Cost per product
Inspection | 3 work-hours × $85 per hour = $255 | $0 | $255
Installation of bushing assembly | 43 work-hours × $85 per hour = $3,655 | 0 | 3,655

In addition, we estimate that it will take about 1 work-hour for each circuit breaker requiring replacement and will require parts costing $0, for a cost of $85 per circuit breaker. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-09-01 Bombardier, Inc.: Amendment 39-18863; Docket No. FAA-2017-0252; Directorate Identifier 2016-NM-187-AD.

(a) Effective Date

This AD becomes effective May 11, 2017.

(b) Affected ADs

None.

(c) Applicability

This AD applies to Bombardier, Inc., Model CL-600-2E25 (Regional Jet Series 1000) airplanes, certificated in any category, as identified in Bombardier Service Bulletin 670BA-24-037, Revision A, dated July 11, 2016.

(d) Subject

Air Transport Association (ATA) of America Code 24, Electrical power.

(e) Reason

This AD was prompted by a report of cracks found in the plastic casing of cockpit circuit breaker panels. We are issuing this AD to detect and correct cracked circuit breaker casings, which could allow moisture ingress that could result in the malfunction of affected circuit breakers, and the potential loss of power to multiple airplane systems.

(f) Compliance

Comply with this AD within the compliance times specified, unless already done.

(g) Inspection and Replacement of Damaged Cockpit Panel Circuit Breakers

At the applicable time specified in paragraph (g)(1) or (g)(2) of this AD: Do a detailed visual inspection for any cracks or signs of damage on each circuit breaker in the cockpit circuit breaker panels, and replace any cracked or damaged circuit breakers, in accordance with “Part A—Inspection and Replacement of the Damaged Cockpit Panel Circuit Breakers,” of the Accomplishment Instructions of Bombardier Service Bulletin 670BA-24-037, Revision A, dated July 11, 2016. Replace any cracked or damaged circuit breakers before further flight.

(1) For airplanes that have accumulated less than 10,000 total flight hours as of the effective date of this AD: Before the accumulation of 12,600 total flight hours.

(2) For airplanes that have accumulated 10,000 or more total flight hours as of the effective date of this AD: Within 2,000 flight hours after the effective date of this AD.

(h) Installation and Inspection of the Cockpit Panel Circuit Breaker Bushing Assembly

At the applicable time specified in paragraph (h)(1) or (h)(2) of this AD: Install a cockpit breaker bushing assembly, and do a detailed visual inspection of each circuit breaker for cracks or damage, in accordance with “Part B—Installation of the Cockpit Panel Circuit Breakers Bushings assembly,” of the Accomplishment Instructions of Bombardier Service Bulletin 670BA-24-037, Revision A, dated July 11, 2016. Replace any cracked or damaged circuit breakers before further flight, in accordance with the Accomplishment Instructions of Bombardier Service Bulletin 670BA-24-037, Revision A, dated July 11, 2016. Installing the cockpit panel circuit breaker bushing assembly is acceptable for compliance with the requirements of paragraph (g) of this AD.

(1) For airplanes that have accumulated less than 10,000 total flight hours as of the effective date of this AD: Before the accumulation of 12,600 total flight hours.

(2) For airplanes that have accumulated 10,000 or more total flight hours as of the effective date of this AD: Within 2,000 flight hours after the effective date of this AD.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(j) Related Information

Refer to Mandatory Continuing Airworthiness Information (MCAI) Canadian Airworthiness Directive CF-2016-30, dated September 21, 2016, for related information. You may examine the MCAI on the Internet at http://www.regulations.gov by searching for and locating Docket No. FAA-2017-0252.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 670BA-24-037, Revision A, dated July 11, 2016.

(ii) Reserved.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 14, 2017.
John P. Piccola, Jr.,
Acting Manager, Transport Airplane Directorate, Aircraft Certification Service.

[FR Doc. 2017-08184 Filed 4-25-17; 8:45 am]

BILLING CODE 4910-13-P